DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[4/26/2017 through 5/5/2017]
Firm name | Firm address | Date accepted for investigation | Product(s)
SeaTac Packaging Manufacturing Corporation | 901 North Levee Road, Puyallup, WA 98371 | 4/27/2017 | The firm manufactures laminate woven sewn open mouth sacks.
Precision Connecting Rod Service, Inc. d/b/a PCR Machining, Inc | 2600 W. Cermak Road, Broadview, IL 60155 | 4/28/2017 | The firm manufactures close tolerance CNC machined steel products such as connecting rods, crankcases, blocks, heads, and manifolds.
Preferred Lightning Protection, Inc | 2100 East 1st. Street, Maryville, MO 64468 | 5/2/2017 | The firm manufactures lightning protection and grounding components.
Stainless Foundry & Engineering, Inc | 5110 North 35th Street, Milwaukee, WI 53209 | 5/3/2017 | The firm manufactures raw and machined steel castings utilizing both sand and investment manufacturing methods.
Anderson Industries, LLC | 200 4th Avenue, Mapleton, ND 58059 | 5/5/2017 | The firm manufactures fabricated steel products for the agriculture, energy, and other commercial industries.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Miriam Kearse,
Lead Program Analyst.

[FR Doc. 2017-10024 Filed 5-17-17; 8:45 am]

BILLING CODE 3510-WH-P